DEPARTMENT OF COMMERCE

Bureau of Industry and Security

15 CFR Part 746

[Docket No. 220505-0111]

RIN 0694-AI87

Expansion of Sanctions Against Russian Industry Sectors Under the Export Administration Regulations (EAR)

AGENCY: Bureau of Industry and Security, Department of Commerce.

ACTION: Final rule.

SUMMARY: In response to the Russian Federation's (Russia's) ongoing aggression against Ukraine, the Department of Commerce is expanding the existing sanctions against Russian industry sectors by imposing a license requirement for exports, reexports, or transfers (in-country) to and within Russia for additional items subject to the Export Administration Regulations (EAR) identified under specific Schedule B numbers or Harmonized Tariff Schedule codes. The Bureau of Industry and Security (BIS) is taking these actions to further restrict Russia's ability to withstand the economic impact of the multilateral sanctions, further limit sources of revenue that could support Russia's military capabilities, and to better align with the European Union's controls.

DATES: This rule is effective on May 9, 2022.

FOR FURTHER INFORMATION CONTACT: For questions on this final rule, contact Eileen Albanese, Director, Office of National Security and Technology Transfer Controls, Bureau of Industry and Security, Department of Commerce, Phone: (202) 482-0092, Fax: (202) 482-482-3355, Email: rpd2@bis.doc.gov. For emails, include “Russia Industry Sector Sanctions Expansion” in the subject line.

SUPPLEMENTARY INFORMATION:

I. Background

In response to Russia's February 2022 invasion of Ukraine, BIS imposed extensive sanctions on Russia under the Export Administration Regulations (15 CFR parts 730-774) (EAR) as part of the final rule Implementation of Sanctions Against Russia Under the Export Administration Regulations (EAR) (the Russia Sanctions rule), effective on February 24, 2022, and published on March 3, 2022 (87 FR 12226). Since the publication of the Russia Sanctions rule, BIS has published a number of final rules imposing additional stringent export controls on Russia. These actions reflect the U.S. Government's position that Russia's invasion of Ukraine flagrantly violated international law, was contrary to U.S. national security and foreign policy interests, and undermined global order, peace, and security, all of which necessitated the imposition of stringent and expansive sanctions.

The export control measures in this final rule build upon the policy objectives set forth in one of the subsequent rules, a final rule effective on March 3, 2022, and published on March 8, 2022 (87 FR 12856), Expansion of Sanctions Against the Russian Industry Sector Under the Export Administration Regulations (EAR) (Russian Industry Sector Sanctions rule). Among other things, the Russian Industry Sector Sanctions rule revised part 746 of the EAR (Embargoes and Other Special Controls) by adding a new paragraph (a)(1)(ii) which imposed an additional license requirement for exports, reexports, and transfers (in-country) to or within Russia of any items subject to the EAR if identified under certain Schedule B or Harmonized Tariff Schedule 6 (HTS) codes. The Russian Industry Sector Sanctions rule also added supplement no. 4 to part 746—HTS Codes and Schedule B Numbers that Require a License for Export, Reexport, and Transfer (in-country) to or within Russia pursuant to § 746.5(a)(1)(ii)—which identifies HTS codes and Schedule B numbers that are subject to the license requirement set forth in paragraph (a)(1)(ii). The four columns added in supplement no. 4 to part 746 consisted of: The Harmonized Tariff Schedule (HTS)-6 Code, HTS Description, Schedule B and Schedule B Description to assist exporters, reexporters, and transferors in identifying the items subject to this license requirement.

This final rule builds upon the policy objectives set forth in the Russian Sanctions rule and the Russian Industry Sector Sanctions rule by expanding upon the latter to further restrict Russia's access to items that it needs to support its military capabilities. The expansion of these export controls under the EAR, implemented in parallel with similarly stringent measures by partner and ally countries, further limits sources of revenue that could support Russia's military capabilities, as well as Russia's ability to withstand the economic impact of the multilateral sanctions.

II. Revisions to the Export Administration Regulations (EAR)

1. Expansion of Russian Industry Sector Sanctions

This final rule amends part 746 of the EAR (Embargoes and Other Special Controls) to further expand the scope of the Russian industry sector sanctions by adding additional HTS codes and Schedule B numbers to supplement no. 4 to part 746 of the EAR, thereby imposing a license requirement for all exports, reexports, and transfers (in-country) to or within Russia for such items. In this final rule, BIS is adding 205 HTS codes at the 6-digit level and 478 corresponding 10-digit Schedule B numbers to better align with the European Union's controls.

2. Clarifications to Supplement No. 4 to Part 746 Controls

This final rule revises supplement no. 4 to part 746 by re-organizing the list of items subject to a license requirement under § 746.5(a)(1)(ii) in order to make it easier for exporters to determine whether a particular item is described in this supplement. Specifically, the columns in supplement no. 4 were previously listed in the following order: Harmonized Tariff Schedule (HTS)-6 Code, HTS Description, Schedule B, Schedule B Description. This final rule re-organizes the columns to list them in the following order: Schedule B, Schedule B Description, HTS Code, and HTS Description. In addition, this final rule is individually listing the existing Schedule B numbers so each number corresponds with a single HTS Code; previously, some of these Schedule B numbers were listed with multiple HTS Codes. It also reorganizes the list of items by ordering them numerically by Schedule B number; previously they had been organized alphabetically by HTS Description.

This final rule revises the existing language in the introductory text in supplement no. 4 to part 746 to reflect the reorganization of the list. In addition, this final rule adds Schedule B number 8705200000 to the introductory text to indicate it is also listed in both supplements no. 2 and 4 and adds a sentence to indicate that Schedule B number 8412294000 is listed in both supplements no. 4 and 5 to this part.

This final rule also adds a second paragraph to the introductory text in supplement no. 4 to part 746 to clarify the relationship between the four columns included in supplement no. 4 to part 746 by further explaining the scope of the items controlled under § 746.5(a)(1)(ii). The first sentence being added clarifies that under the Foreign Trade Regulations (15 CFR 30.6(a)(12)), exporters can use either the referenced HTS Code or Schedule B number from supplement no. 4 to part 746 when filing Electronic Export Information (EEI) in the Automated Export System (AES). The Russian Industry Sector Sanctions Rule included the applicable HTS-6 Code and Schedule B number and descriptions of items listed in supplement no. 4 to part 746 to assist exporters, reexporters, and transferors who may be more familiar with one or the other of the HTS Code or Schedule B number identification systems. The second sentence being added clarifies that only the items identified in the HTS Description column are subject to the license requirement under § 746.5(a)(1)(ii), which is consistent with how the European Union (EU) applies its comparable controls. Lastly, the third sentence being added clarifies that the other three columns—HTS Code, Schedule B, and Schedule B Description—are only intended to assist exporters with their AES filing responsibilities and does not indicate that all items classified under those HTS Codes or Schedule B numbers are subject to § 746.5(a)(1)(ii)'s restrictions.

3. Conforming Changes

This final rule revises the last sentence of the introductory text of supplement no. 2 to part 746—Russian Industry Sector Sanction List—to provide guidance on certain Schedule B numbers that are identified in both supplement no. 2 and supplement no. 4 to part 746. It now clarifies that in addition to Schedule B number 8479899850, Schedule B number 8705200000 is also listed in both supplements no. 2 and 4, and that exporters, reexporters, and transferors must comply with the license requirements under both § 746.5(a)(1)(i) and (ii), as applicable, for these Schedule B numbers.

In addition, this final rule adds one sentence at the end of the introductory text of supplement no. 5 to part 746—`Luxury Goods' That Require a License For Export, Reexport, and Transfer (In-Country) to or Within Russia or Belarus Pursuant to § 746.10(a)(1) and (2)—to provide guidance on one Schedule B number that is identified in both supplements no. 4 and no. 5 to part 746. This sentence clarifies that exporters, reexporters, and transferors must comply with the license requirements under both §§ 746.5(a)(ii) and 746.10 as applicable, for Schedule B number 8412294000.

In § 746.5 (Russian industry sector sanctions), this final rule revises the license review policy in paragraph (b)(2) to specify that applications involving items that meet humanitarian needs will be reviewed under a case-by case license review policy. This case-by-case license review policy will allow for discretion in approving licenses for items that meet humanitarian needs while also providing discretion to deny licenses for items that could generate revenue to support Russia's military capabilities.

Savings Clause

For the changes being made in this final rule, shipments of items removed from eligibility for a License Exception or export, reexport, or transfer (in-country) without a license (NLR) as a result of this regulatory action that were en route aboard a carrier to a port of export, reexport, or transfer (in-country), on May 9, 2022, pursuant to actual orders for export, reexport, or transfer (in-country) to or within a foreign destination, may proceed to that destination under the previous eligibility for a License Exception or export, reexport, or transfer (in-country) without a license (NLR).

Export Control Reform Act of 2018

On August 13, 2018, the President signed into law the John S. McCain National Defense Authorization Act for Fiscal Year 2019, which included the Export Control Reform Act of 2018 (ECRA) (codified, as amended, at 50 U.S.C. Sections 4801-4852). ECRA provides the legal basis for BIS's principal authorities and serves as the authority under which BIS issues this rule.

Rulemaking Requirements

1. This final rule is not a “significant regulatory action” because it “pertain[s]” to a “military or foreign affairs function of the United States” under sec. 3(d)(2) of Executive Order 12866.

2. Notwithstanding any other provision of law, no person is required to respond to, nor shall any person be subject to a penalty for failure to comply with, a collection of information subject to the requirements of the Paperwork Reduction Act of 1995 (44 U.S.C. 3501 et seq.) (PRA), unless that collection of information displays a currently valid Office of Management and Budget (OMB) Control Number.

This rule involves three collections of information. BIS believes there will be minimal burden changes to two of these collections—Five-Year Records Retention Requirement for Export Transactions and Boycott Actions (OMB control number 0694-0096) and Automated Export System (AES) Program (OMB control number 0607- 0152).

However, Multi-Purpose Application (OMB control number 0694-0088) will exceed existing estimates currently associated with this collection as BIS believes the respondent burden could increase the estimated number of submissions by 670 for license applications submitted annually to BIS. BIS estimates the burden hours associated with this collection would increase by 331 hours (i.e., 670 applications × 30.6 minutes per response) for a total estimated cost increase of $9,930 (i.e., 331 hours × $30 per hour). The $30 per hour cost estimate for OMB control number 0694-0088 is consistent with the salary data for export compliance specialists currently available through glassdoor.com (glassdoor.com estimates that an export compliance specialist makes $55,280 annually, which computes to roughly $26.58 per hour). BIS is in the process of updating this information collection to account for the increase in burden hours and costs posed by this rule. Comments on the methodology associated with calculating the cost or burden increases or any other aspect of this collection can be submitted via www.regulations.gov by searching for OMB Control Number 0694-0088.

3. This rule does not contain policies with federalism implications as that term is defined in Executive Order 13132.

4. Pursuant to section 1762 of the Export Control Reform Act of 2018 (50 U.S.C. 4821) (ECRA), this action is exempt from the Administrative Procedure Act (APA) (5 U.S.C. 553) requirements for notice of proposed rulemaking, opportunity for public participation, and delay in effective date. While section 1762 of ECRA provides sufficient authority for such an exemption, this action is also independently exempt from these APA requirements because it involves a military or foreign affairs function of the United States (5 U.S.C. 553(a)(1)).

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 746

Exports, Reporting and recordkeeping requirements.

For the reasons stated in the preamble, part 746 of the Export Administration Regulations (15 CFR parts 730 through 774) is amended as follows:

PART 746—EMBARGOES AND OTHER SPECIAL CONTROLS

1. The authority citation for 15 CFR part 746 continues to read as follows:

Authority: 50 U.S.C. 4801-4852; 50 U.S.C. 4601 et seq.; 50 U.S.C. 1701 et seq.; 22 U.S.C. 287c; Sec 1503, Pub. L. 108-11, 117 Stat. 559; 22 U.S.C. 2151 note; 22 U.S.C. 6004; 22 U.S.C. 7201 et seq.; 22 U.S.C. 7210; E.O. 12854, 58 FR 36587, 3 CFR, 1993 Comp., p. 614; E.O. 12918, 59 FR 28205, 3 CFR, 1994 Comp., p. 899; E.O. 13222, 66 FR 44025, 3 CFR, 2001 Comp., p. 783; E.O. 13338, 69 FR 26751, 3 CFR, 2004 Comp., p 168; Presidential Determination 2003-23, 68 FR 26459, 3 CFR, 2004 Comp., p. 320; Presidential Determination 2007-7, 72 FR 1899, 3 CFR, 2006 Comp., p. 325; Notice of May 6, 2021, 86 FR 26793 (May 10, 2021).

2. Section 746.5 is amended by revising paragraph (b)(2) to read as follows:

§ 746.5 Russian industry sector sanctions.

* * * * *

(b) * * *

(2) Applications for the export, reexport, or transfer (in-country) of any item pursuant to paragraph (a)(1)(ii) of this section that requires a license for Russia will be reviewed under a policy of denial, except that applications for export, reexport, or transfer (in-country) of items that may be necessary for health and safety reasons or for items that meet humanitarian needs will be reviewed under a case-by case license review policy.

* * * * *

3. Supplement no. 2 to part 746 is amended by revising the last sentence of the introductory text to read as follows:

Supplement No. 2 to Part 746—Russian Industry Sector Sanction List

* * * Schedule B numbers 8479899850 and 8705200000 are listed in both this supplement and supplement no. 4 to this part, so exporters, reexporters, and transferors must comply with the license requirements under both § 746.5(a)(1)(i) and (ii) as applicable.

* * * * *

4. Supplement no. 4 to part 746 is revised to read as follows:

Supplement No. 4 to Part 746—HTS Codes and Schedule B Numbers That Require a License for Export, Reexport, and Transfer (In-Country) to or Within Russia Pursuant to § 746.5(a)(1)(ii)

(a) The source for the Schedule B numbers and descriptions and Harmonized Tariff Schedule (HTS)-6 codes and descriptions in this list comes from the Bureau of the Census's Schedule B concordance of exports 2022. Census's Schedule B List 2022 can be found at www.census.gov/foreign-trade/aes/documentlibrary/#concordance. The Introduction Chapter of the Schedule B provides important information about classifying products and interpretations of the Schedule B, e.g., NESOI means Not Elsewhere Specified or Included. In addition, important information about products within a particular chapter may be found at the beginning of chapters. This supplement includes four columns consisting of the Schedule B, Schedule B Description, HTS Code, and HTS Description to assist exporters, reexporters, and transferors in identifying the products in this supplement. For information on HTS codes in general, you may contact a local import specialist at U.S. Customs and Border Protection at the nearest port. Schedule B numbers 8479899850 and 8705200000 are listed in both this supplement and supplement no. 2 to this part, so exporters, reexporters, and transferors must comply with the license requirements under both § 746.5(a)(1)(i) and (ii) as applicable. Schedule B number 8412294000 is listed in both this supplement and supplement no. 5 to this part, so exporters, reexporters, and transferors must comply with the license requirements under both §§ 746.5(a)(ii) and 746.10 as applicable.

(b) Under the Foreign Trade Regulations (FTR) (15 CFR part 30), exporters can use either the HTS Code or Schedule B number when filing Electronic Export Information (EEI) in the Automated Export System (AES), therefore the applicable HTS Codes and Schedule B numbers and descriptions are included in this supplement to assist exporters, reexporters, and transferors who may be more familiar with one or the other of the HTS-6 Code or Schedule B number identification systems. Only the items identified in the HTS Description column of this supplement are subject to the license requirement under § 746.5(a)(1)(ii). The other 3 columns—HTS Code, Schedule B and Schedule B Description—are intended to assist exporters with their AES filing responsibilities. If an item is classified under one of these HTS Codes or Schedule B numbers, but it is not described by the relevant entry in the HTS Description column, it is not subject to the license requirement set forth in § 746.5(a)(1)(ii).

Schedule B | Schedule B description | HTS code | HTS description
3815190000 | Supported Catalysts, Nesoi | 381519 | Supported Catalysts, Nesoi.
4408100100 | Veneer Sheets And Sheets For Plywood And Other Wood Sawn Lengthwise, Sliced Or Peeled, Thickness Not Over 6 Mm, Coniferous | 440810 | Veneer Sheet Etc, Not Over 6mm Thick, Coniferous.
4408900105 | Ash Veneer Sheets And Sheets For Plywood And Other Wood, Sawn Lengthwise, Sliced Or Peeled, Thickness Not Exceeding 6 Mm, Spliced Or End-jointed | 440890 | Veneer Sheet Etc, Not Ov 6mm, Nonconiferous Nesoi.
4408900110 | Birch Veneer Sheets And Sheets For Plywood And Other Wood, Sawn Lengthwise, Sliced Or Peeled, Thickness Not Exceeding 6 Mm, Spliced Or End-jointed | 440890 | Veneer Sheet Etc, Not Ov 6mm, Nonconiferous Nesoi.
4408900115 | Cherry Wood Veneer Sheets & Sheets For Plywood And Other Wood, Sawn Lengthwise, Sliced Or Peeled, Thickness Not Exceeding 6 Mm, Spliced Or End-jointed | 440890 | Veneer Sheet Etc, Not Ov 6mm, Nonconiferous Nesoi.
4408900121 | Maple Veneer Sheets And Sheets For Plywood And Other Wood, Sawn Lengthwise, Sliced Or Peeled, Thickness Not Exceeding 6 Mm, Spliced Or End-jointed | 440890 | Veneer Sheet Etc, Not Ov 6mm, Nonconiferous Nesoi.
4408900131 | Red Oak Veneer Sheets And Sheets For Plywood And Other Wood, Sawn Lengthwise, Sliced Or Peeled, Thickness Not Exceeding 6 Mm, Spliced Or End-jointed | 440890 | Veneer Sheet Etc, Not Ov 6mm, Nonconiferous Nesoi.
4408900137 | Oak, Except Red, Veneer Sheets & Sheets For Plywood & Other Wood, Sawn Lengthwise, Sliced Or Peeled, Thickness Not Over 6 Mm, Spliced Or End-jointed | 440890 | Veneer Sheet Etc, Not Ov 6mm, Nonconiferous Nesoi.
4408900145 | Walnut Veneer Sheets And Sheets For Plywood And Other Wood, Sawn Lengthwise, Sliced Or Peeled, Thickness Not Exceeding 6 Mm, Spliced Or End-jointed | 440890 | Veneer Sheet Etc, Not Ov 6mm, Nonconiferous Nesoi.
4408900151 | Veneer Sheets And Sheets For Plywood And Other Wood, Nesoi, Sawn Lengthwise, Sliced Or Peeled, Thickness Not Exceeding 6 Mm, Spliced Or End-jointed | 440890 | Veneer Sheet Etc, Not Ov 6mm, Nonconiferous Nesoi.
4408900189 | Veneer Sheets, Sheets For Plywood & Other Laminated Wood, Nesoi, Sawn Lengthwise, Sliced Or Peeled, Thickness Not Over 6 Mm, Not Spliced Or End Jointed | 440890 | Veneer Sheet Etc, Not Ov 6mm, Nonconiferous Nesoi.
4416003010 | Casks, Barrels And Hogsheads, New, Of Wood | 441600 | Casks, Barrels, Vats, Etc. And Parts, Of Wood.
4416003020 | Casks, Barrels And Hogsheads, Used, Assembled (Set Up), Of Wood | 441600 | Casks, Barrels, Vats, Etc. And Parts, Of Wood.
4416003030 | Casks, Barrels And Hogsheads, Used, Unassembled (Knocked Down), Of Wood | 441600 | Casks, Barrels, Vats, Etc. And Parts, Of Wood.
4416006010 | Staves, New, Of Wood | 441600 | Casks, Barrels, Vats, Etc. And Parts, Of Wood.
4416006020 | Hoops, New, Of Wood | 441600 | Casks, Barrels, Vats, Etc. And Parts, Of Wood.
4416006030 | Tight Barrelheads, New, Of Softwood | 441600 | Casks, Barrels, Vats, Etc. And Parts, Of Wood.
4416006040 | Staves, Used, Of Wood | 441600 | Casks, Barrels, Vats, Etc. And Parts, Of Wood.
4416006050 | Hoops, Of Wood, Tight Barrelheads Of Softwood, Used | 441600 | Casks, Barrels, Vats, Etc. And Parts, Of Wood.
4416009020 | Vats, Tubs And Other Coopers' Products And Parts Thereof, Of Wood, New, Nesoi | 441600 | Casks, Barrels, Vats, Etc. And Parts, Of Wood.
4416009040 | Vats, Tubs And Other Coopers' Products And Parts Thereof, Of Wood, Used, Nesoi | 441600 | Casks, Barrels, Vats, Etc. And Parts, Of Wood.
7309000030 | Tanks, Of Iron Or Steel, Of A Capacity Exceeding 300 Liters, Whether Or Not Lined Or Heat Insulated, Not Fitted W Mechan Or Thermal Equip Not F Gases | 730900 | Tanks Etc, Over 300 Liter Capacity, Iron Or Steel.
7309000090 | Reservoirs, Vats And Similar Containers Of Iron Or Steel, Capacity Over 300 Liters, Not Fitted With Mechanical Or Thermal Equip, Not For Liq O Cmp Gas | 730900 | Tanks Etc, Over 300 Liter Capacity, Iron Or Steel.
7310100010 | Empty Steel Drums And Barrels, Of A Capacity Of 50 To 300 Liters, Not For Liq Gas, Not Fitted With Mechanical Or Thermal Equipment | 731010 | Tanks Etc, Capacity Notun50notov300 Liter, Ir & St.
7310100050 | Tanks, Casks, Cans, Boxes And Similar Containers Nesoi, Capacity 50-300 Liters, Iron Or Steel, Not Fitted With Mechanical Or Thermal Equipnot F Gases | 731010 | Tanks Etc, Capacity Notun50notov300 Liter, Ir & St.
8207600030 | Broaches | 820760 | Tools For Boring Or Broaching, And Pts, Base Mtl.
8207600060 | Othr Boring Tools Nesoi And Parts Throf | 820760 | Tools For Boring Or Broaching, And Pts, Base Mtl.
8208100000 | Knives And Cutting Blades For Metal Working And Parts Thereof | 820810 | Knvs A Cttng Blds F Mtl Wrkng A Prts.
8208200000 | Knives And Cutting Blades For Wood Working And Parts Thereof | 820820 | Knvs A Cttng Blds F Wood Wrkng A Prts.
8208300000 | Knives And Cutting Blades For Kitchen Appliances Or For Machines Used By The Food Industry, And Parts | 820830 | Kns A Cttng Blds F Ktchn Appln O Fd Ind Mach A Pts.
8208400000 | Knives And Cutting Blades For Agricultural Or Forestry Machines, And Parts | 820840 | Knvs A Cttng Blds F Agric O Frstry Mach, A Pts.
8208900000 | Other Knives And Cutting Blades For Machines Or Mechanical Appliances, And Parts Thereof, Of Base Metal | 820890 | Oth Knvs A Cttng Blds F Mach Or Mech Eqp, Pts B Mt.
8402120000 | Watertube Boilers With A Steam Production Not Exceeding 45 T Per Hour | 840212 | Watertube Boilers Steam Prod Not Exc 45 T Per Hour.
8402190000 | Vapor Generating Boilers, Nesoi, Including Hybrid Boilers | 840219 | Vapor Generating Boilers, Nesoi, Inc Hybrid.
8402200000 | Super-heated Water Boilers | 840220 | Super-heated Water Boilers.
8402900010 | Heat Exchangers | 840290 | Super-heated Water Boilers & Steam Genrtn Boil Pts.
8402900090 | Parts For Steam Or Other Vapor Generating Boilers And Super-heated Water Boilers, Except Heat Exchangers | 840290 | Super-heated Water Boilers & Steam Genrtn Boil Pts.
8405900000 | Parts For Producer Gas, Water Gas, Acetylene Gas And Similar Water Process Gas Generators, With Or Without Their Purifiers | 840590 | Pts, prod Gas, wtr Gas, acetylene Gas, wtr Pro Gas Gen.
8406900040 | Parts For Steam Turbines | 840690 | Parts For Steam And Other Vapor Turbines.
8406900080 | Parts For Other Than Steam Vapor Turbines | 840690 | Parts For Steam And Other Vapor Turbines.
8412100010 | Missile And Rocket Reaction Engines | 841210 | Reaction Engines Other Than Turbojets.
8412100090 | Reaction Engines Except Missile And Rocket Engines | 841210 | Reaction Engines Other Than Turbojets.
8412210015 | Linear Acting Hydraulic Motors With Tie-rod Type Cylinders | 841221 | Hydraulic Power Engines And Motors, Linear Acting.
8412210030 | Linear Acting Hydraulic Motors With Weld Fused Type Cylinders | 841221 | Hydraulic Power Engines And Motors, Linear Acting.
8412210045 | Linear Acting Hydraulic Motors With Telescoping Type Cylinders | 841221 | Hydraulic Power Engines And Motors, Linear Acting.
8412210060 | Linear Acting Hydraulic Motors With Rodless Type Cylinders | 841221 | Hydraulic Power Engines And Motors, Linear Acting.
8412210075 | Linear Acting Hydraulic Motors (Cylinders), Nesoi | 841221 | Hydraulic Power Engines And Motors, Linear Acting.
8412298015 | Hydraulic Power Engines, Unlimited Rotary Acting, Gear Type | 841229 | Hydraulic Power Engines & Motors Ex Linear Acting.
8412298030 | Hydraulic Power Engines, Unlimited Rotary Acting, Radial Piston Type | 841229 | Hydraulic Power Engines & Motors Ex Linear Acting.
8412298045 | Hydraulic Power Engines, Unlimited Rotary Acting, Axial Piston Type | 841229 | Hydraulic Power Engines & Motors Ex Linear Acting.
8412298060 | Hydraulic Power Engines, Unlimited Rotary Acting, Nesoi | 841229 | Hydraulic Power Engines & Motors Ex Linear Acting.
8412298075 | Hydraulic Power Engines And Motors, Nesoi | 841229 | Hydraulic Power Engines & Motors Ex Linear Acting.
8412390040 | Pneumatic Power Engines And Motors, Unlimited Rotary Acting | 841239 | Pneumatic Power Engines & Motors Ex Linear Acting.
8412390080 | Pneumatic Power Engines And Motors, Nesoi | 841239 | Pneumatic Power Engines & Motors Ex Linear Acting.
8412801000 | Spring-operated And Weight-operated Motors | 841280 | Engines And Motors, Nesoi.
8412809000 | Engines And Motors, Nesoi | 841280 | Engines And Motors, Nesoi.
8414901040 | Parts Of Fans (Including Blowers) And Ventilating Or Recycling Hoods For Permanent Installation (Of Subheading 8414.51.00) | 841490 | Air/gas Pump, Compressor And Fan Etc Parts, Nesoi.
8414901080 | Parts Of Other Fans (Including Blowers) And Ventilating Or Recycling Hoods Not Permanently Installed, Nesoi | 841490 | Air/gas Pump, Compressor And Fan Etc Parts, Nesoi.
8414902015 | Parts Nesoi, Of Refrigerating And Air Conditioning Compressors | 841490 | Air/gas Pump, Compressor And Fan Etc Parts, Nesoi.
8414902095 | Parts Nesoi, Of Compressors Other Than Refrigerating And Air Conditioning Compressors | 841490 | Air/gas Pump, Compressor And Fan Etc Parts, Nesoi.
8414909100 | Parts Of Air Or Vacuum Pumps, Nesoi | 841490 | Air/gas Pump, Compressor And Fan Etc Parts, Nesoi.
8415200000 | Automotive Air Conditioners | 841520 | Automotive Air Conditioners.
8415830050 | Condensing Units Not Exceeding 17.58 Kw/Hr, Not Incorporating A Refrigerating Unit | 841583 | Air Conditioning Machines Etc Not Incl Refrig Unit.
8415830060 | Condensing Units Exceeding 17.58 Kw/Hr (60,000 Btu/Hr), Not Incorporating A Refrigerating Unit | 841583 | Air Conditioning Machines Etc Not Incl Refrig Unit.
8415830070 | Heat Exchangers, Not Incorporating A Refrigerating Unit, Nesoi | 841583 | Air Conditioning Machines Etc Not Incl Refrig Unit.
8415830090 | Air Conditioning Machines Not Incorporating A Refrigerating Unit, Nesoi | 841583 | Air Conditioning Machines Etc Not Incl Refrig Unit.
8418690110 | Icemaking Machines | 841869 | Refrigerating/freezing Equipment, Nesoi.
8418690120 | Drinking Water Coolers, Refrigerated, Self-contained | 841869 | Refrigerating/freezing Equipment, Nesoi.
8418690130 | Soda Fountain And Beer Dispensing Equipment, Refrigerated | 841869 | Refrigerating/freezing Equipment, Nesoi.
8418690140 | Centrifugal Liquid Chilling Refrigerating Units | 841869 | Refrigerating/freezing Equipment, Nesoi.
8418690150 | Reciprocating Liquid Chilling Refrigerating Units | 841869 | Refrigerating/freezing Equipment, Nesoi.
8418690160 | Absorption Liquid Chilling Units | 841869 | Refrigerating/freezing Equipment, Nesoi.
8418690180 | Refrigerating Or Freezing Equipment, Nesoi | 841869 | Refrigerating/freezing Equipment, Nesoi.
8419400080 | Distilling Or Rectifying Plant, For The Treatment Of Materials By A Process Involving A Change In Temperature, Nesoi | 841940 | Distilling or rectifying plant.
8419899585 | Industrial Machinery, Plant Or Equipment For The Treatment Of Materials, Involving A Change In Temperature, Nesoi | 841989 | Machine Etc For Mat'l Treatment By Temp Cont Nesoi.
8420910000 | Cylinders For Calendering Or Other Rolling Machines, Other Than For Metals Or Glass | 842091 | Cylinders F Rolling Mach, Exc F Metals Or Glass.
8420990000 | Parts, Except Cylinders, For Calendering Or Other Rolling Machines, Other Than For Metals Or Glass | 842099 | Parts,nesoi,f Folling Mach, Exc F Metals Or Glass.
8421190000 | Centrifuges, Including Centrifugal Dryers, Nesoi | 842119 | Centrifuges, Nesoi.
8421230000 | Oil Or Fuel Filters For Internal Combustion Engines | 842123 | Oil Or Fuel Filters For Internal Combustion Engine.
8421290005 | Refrigerant Recovery And Recycling Units For Filtering Or Purifying Liquids | 842129 | Filter/purify Machine & Apparatus For Liquid Nesoi.
8421290015 | Oil-separation Equipment For Filtering Or Purifying Liquid | 842129 | Filter/purify Machine & Apparatus For Liquid Nesoi.
8421290040 | Hydraulic Fluid Power Filters, Rated At 1,000 Kpa Or Greater | 842129 | Filter/purify Machine & Apparatus For Liquid Nesoi.
8421290065 | Filtering Or Purifying Machinery And Apparatus For Liquids, Nesoi | 842129 | Filter/purify Machine & Apparatus For Liquid Nesoi.
8421310000 | Intake Air Filters For Internal Combustion Engines | 842131 | Intake Air Filters For Internal Combustion Engines.
8421390140 | Gas Separation Equipment | 842131 | Intake Air Filters For Internal Combustion Engines.
8421390190 | Filtering Or Purifying Machinery And Apparatus For Gases, Nesoi | 842131 | Intake Air Filters For Internal Combustion Engines.
8421910000 | Parts Of Centrifuges, Including Centrifugal Dryers | 842191 | Parts Of Centrifuges, Including Centrifugal Dryers.
8421990140 | Parts Of Machinery And Apparatus For Filtering Or Purifying Water | 842199 | Filter/purify Machine & Apparatus Parts.
8421990180 | Parts Of Machinery And Apparatus For Filtering Or Purifying Liquids And Gases, Nesoi | 842199 | Filter/purify Machine & Apparatus Parts.
8424100000 | Fire Extinguishers, Whether Or Not Charged | 842410 | Fire Extinguishers, Whether Or Not Charged.
8424890000 | Mechanical Appliances (Whether Or Not Hand Operated) For Projecting, Dispersing Or Spraying Liquids Or Powders, Nesoi | 842489 | Mechanical Appliance For Projecting Liquids Nesoi.
8424902000 | Parts Of Sand Blasting Machines | 842490 | Pts For Mechanical Appliance Project Liquid Etc.
8424909040 | Parts Of Steam And Similar Jet Projecting Machines | 842490 | Pts For Mechanical Appliance Project Liquid Etc.
8424909500 | Parts, Nesoi, Of Mechanical Appliances For Projecting, Dispersing Or Spraying Liquids Or Powders; Of Fire Extinguishers; Of Spray Guns | 842490 | Pts For Mechanical Appliance Project Liquid Etc.
8425110000 | Pulley Tackle And Hoists, Other Than Skip Hoists Or Hoists Of A Kind Used For Raising Vehicles, Powered By Electric Motor | 842511 | Puly Tac & host, exc Skip, host Fr Rais Veh, Pow El Mt.
8425310100 | Winches And Capstans Powered By Electric Motors | 842531 | Winches And Capstans Powered By Electric Motors.
8426120000 | Mobile Lifting Frames On Tires And Straddle Carriers | 842612 | Mobile Lifting Frames On Tires & Straddle Carriers.
8426990000 | Lifting Machinery, Nesoi | 842699 | Lifting Or Handling Machinery, Nesoi.
8428200010 | Conveyors, Pneumatic, Nesoi | 842820 | Pneumatic Elevators And Conveyors.
8428200050 | Elevators, Pneumatic, Nesoi | 842820 | Pneumatic Elevators And Conveyors.
8428320000 | Continuous-action Elevators And Conveyors, For Goods Or Materials, Bucket Type | 842832 | Cont-act Elev & Convey, fr Goods Or Matl,bucket Typ.
8428330000 | Belt Type Continuous-action Elevators And Conveyors, For Goods Or Materials, Nesoi | 842833 | Cont-act Elev & Convey, fr Goods Or Matl,belt Type.
8428390000 | Continuous-action Elevators And Conveyors, For Goods Or Materials, Nesoi | 842839 | Cont-act Elev & Convey, fr Goods Or Materls, Nesoi.
8428900310 | Woodland Log Handling Equipment (Other Than Skidders) | 842890 | Lifting, Handling, Loading & Unloading Machy Nesoi.
8428900390 | Machinery For Lifting, Handling, Loading Or Unloading, Nesoi | 842890 | Lifting, Handling, Loading & Unloading Machy Nesoi.
8429190010 | Bulldozers And Angledozers, Self-propelled, New, Except Track Laying | 842919 | Bulldozers And Angledozers, Self-prop Nesoi.
8429190090 | Bulldozers And Angledozers, Self-propelled, Used Or Rebult, Except Track Laying | 842919 | Bulldozers And Angledozers, Self-prop Nesoi.
8429591030 | Backhoes, New, Except 360 Degree Revolving Superstructure | 842959 | Mech Shovels, Excavators And Shovel Loaders Nesoi.
8429591060 | Shovels, Clamshells And Draglines, New, Except 360 Degree Revolving Superstructures | 842959 | Mech Shovels, Excavators And Shovel Loaders Nesoi.
8429591090 | Backhoes, Shovels, Clamshells, Draglines, Used Or Rebuilt | 842959 | Mech Shovels, Excavators And Shovel Loaders Nesoi.
8429595020 | Ladder Type Ditchers And Trenchers, New | 842959 | Mech Shovels, Excavators And Shovel Loaders Nesoi.
8429595040 | Ditchers And Trenchers, Except Ladder Type, New | 842959 | Mech Shovels, Excavators And Shovel Loaders Nesoi.
8429595060 | Mechanical Shovels, Excavators And Shovel Loaders, Except 360 Degree Revoling Superstructures, New, Nesoi | 842959 | Mech Shovels, Excavators And Shovel Loaders Nesoi.
8429595080 | Mechanical Shovels, Excavators And Shovel Loaders, Except 360 Degree Revoling Superstructures Used Or Rebuilt, Nesoi | 842959 | Mech Shovels, Excavators And Shovel Loaders Nesoi.
8430100000 | Pile-drivers And Pile-extractors | 843010 | Pile-drivers And Pile-extractors.
8430390000 | Coal Or Rock Cutters And Tunneling Machinery, Other Than Self-propelled | 843039 | Coal Or Rock Cutters & Tunnel Mach, Nesoi.
8430500000 | Moving, Grading, Leveling, Scraping, Excavating, Extracting Machinery For Earth, Minerals Or Ores, Self-propelled, Nesoi | 843050 | Moving, Grading Etc Machines Etc Nesoi, Self-prop.
8430690100 | Moving, Grading, Leveling, Scraping, Excavating, Extracting Machinery For Earth,Minerals Or Ores, Not Self-propelled, Nesoi | 843069 | Moving, Grading Etc Machines Etc Nesoi, No Self-pr.
8439100010 | Machinery For Making Pulp Of Fibrous Cellulosic Material, New | 843910 | Machy For Mkg Pulp Of Fibrous Cellulosic Material.
8439100090 | Machinery For Making Pulp Of Fibrous Cellulosic Material, Used Or Rebilt | 843910 | Machy For Mkg Pulp Of Fibrous Cellulosic Material.
8439300000 | Machinery For Finishing Paper Or Paperboard | 843930 | Machinery For Finishing Paper Or Paperboard.
8440900000 | Parts For Bookbinding Machinery, Including Book-sewing Machines | 844090 | Parts For Bookbind Mach, Inc Book-sew Machines.
8441300000 | Machines For Making Cartons, Boxes, Cases, Tubes, Drums Or Similar Containers, Other Than By Molding | 844130 | Mac Fr Mak Cart, box, case, tube, drum Or Cont Ex Mold.
8442400000 | Parts Of Machinery, Apparatus And Equipment, Nesoi, For Preparing Or Making Printing Blocks, Plates, Cylinders Or Other Printing Components | 844240 | Parts Of Mach & Equip F Make Print Blocks, Etc.
8443130000 | Offset Printing Machinery, Nesoi | 844313 | Offset Printing Machinery, Nesoi.
8443150000 | Letterpress Printing Machinery, Except Reel-fed (Excluding Flexograph | 844315 | Letterpress Printing Mach, Exc Flexographic, Nesoi.
8443160000 | Flexographic Printing Machinery | 844316 | Flexographic Printing Machinery.
8443170000 | Gravure Printing Machinery | 844317 | Gravure Printing Machinery.
8443911000 | Machines For Uses Ancillary To Printing | 844391 | Pts & Acc Print Mach By Means Of Plate, Cylndr Etc.
8443912000 | Parts Of Textile Printing Machinery | 844391 | Pts & Acc Print Mach By Means Of Plate, Cylndr Etc.
8443913000 | Parts Of Printing Machinery, Except Textile, And Machines For Uses Ancillary To Printing | 844391 | Pts & Acc Print Mach By Means Of Plate, Cylndr Etc.
8444000010 | Texturing Machines For Man-made Textile Materials | 844400 | Machines Extruding, Drawing Etc Manmade Textiles.
8444000090 | Machines For Extruding, Drawing Or Cutting Man-made Textile Materials | 844400 | Machines Extruding, Drawing Etc Manmade Textiles.
8446210000 | Power Looms For Weaving Fabrics Of A Width Exceeding 30 Cm, Shuttle Type | 844621 | Power Looms For Weaving Fab, width Exc 30 cm, shuttle.
8446290000 | Weaving Machines (Looms) For Weaving Fabrics Of A Width Exceeding 30 Cm, Shuttle Type, Nesoi | 844629 | Weaving Mach, fabric Exceed 30 cm, shuttle Type, Nesoi.
8448110000 | Dobbies And Jacquard; Card Reducing, Copying, Punching Or Assembling Machines For Use As Auxiliary Machines Of Heading 8444, 8445, 8446 Or 8447 | 844811 | Dob & Jac; card Reduc, copy, punch, assm Mac As Aux Mc.
8448190000 | Auxiliary Machinery, Nesoi, For Machines Of Heading 8444, 8445, 8446 Or 8447 | 844819 | Auxiliary Mac For Text Machines (head 8444-8447).
8448201000 | Parts Of Machines For Extruding Or Drawing Man-made Textile Filaments | 844820 | Pt & Access For Mach For Extruding mm Text Mtl Etc.
8448205010 | Parts Of Texturing Machines | 844820 | Pt & Access For Mach For Extruding mm Text Mtl Etc.
8448205090 | Parts And Accessories Of Machines Of Heading 8444 Or Of Their Auxiliary Machinery | 844820 | Pt & Access For Mach For Extruding mm Text Mtl Etc.
8448330000 | Spindles, Spindle Flyers, Spinning Rings And Ring Travellers | 844833 | Spindles, spin Flyers, spin Rings & Ring Travellers.
8448391000 | Parts Of Spinning, Doubling Or Twisting Machines | 844839 | Pts & Access For Spinning, Winding Mach Etc Nesoi.
8448395000 | Parts Of Winding Or Reeling Machines | 844839 | Pts & Access For Spinning, Winding Mach Etc Nesoi.
8448399000 | Parts And Accessories Of Machines Of Heading 8445 Or Of Their Auxiliary Machinery, Nesoi | 844839 | Pts & Access For Spinning, Winding Mach Etc Nesoi.
8448420000 | Reeds For Looms, Healds And Heald-frames | 844842 | Reeds For Looms, Healds And Heald-frames.
8448491000 | Shuttles | 844849 | Parts & Acces Of Weav Mach Or Their Aux Mach, Nesoi.
8448492000 | Parts And Accessories Of Weaving Machines (Looms) Or Of Their Auxiliary Machinery, Nesoi | 844849 | Parts & Acces Of Weav Mach Or Their Aux Mach, Nesoi.
8448514000 | Needles For Knitting Machines | 844851 | Sinkers Needles & Oth Arts Used In Formng Stitches.
8448515000 | Sinkers, Needles And Other Articles Used In Forming Stitches, Nesoi | 844851 | Sinkers Needles & Oth Arts Used In Formng Stitches.
8451100000 | Dry-cleaning Machines | 845110 | Dry-cleaning Machines For Yarn, Fabric Or Articles.
8451290010 | Drying Machines, For Drying Made Up Articles, Nesoi | 845129 | Drying Machines With Dry Linen Capacity Over 10 Kg.
8451290090 | Drying Machines, Nesoi | 845129 | Drying Machines With Dry Linen Capacity Over 10 Kg.
8451300000 | Ironing Machines And Presses (Including Fusing Presses) | 845130 | Ironing Mach And Presses (includ Fusing Presses).
8451900010 | Parts Of Machines For Washing, Dry-cleaning, Ironing, Pressing Or Drying Made Up Textiles Articles Or Of Other Household Or Laundry Type Machines | 845190 | Pts For Wash/clean, Pasting Floor Covers Etc.
8451900020 | Parts Of Machines For Bleaching, Dyeing, Washing Or Cleaning Textile Yarns, Fabrics Or Made Up Textile Articles | 845190 | Pts For Wash/clean, Pasting Floor Covers Etc.
8451900090 | Parts Of Machinery Of Heading 8451, Nesoi | 845190 | Pts For Wash/clean, Pasting Floor Covers Etc.
8452300000 | Sewing Machine Needles | 845230 | Sewing Machine Needles.
8453100000 | Machines For Preparing, Tanning Or Working Hides, Skins Or Leather | 845310 | Mach For Prepar, tann Or Work Hids, skins Or Leather.
8453800000 | Machinery For Making Or Repairing Articles Of Hides, Skins, Or Leather, Except Sewing Machines, Nesoi | 845380 | Mach For Make, repair Art Of Hide, skin, lether, nesoi.
8453900000 | Parts Of Machinery Preparing, Tanning Or Working Hides, Skins Or Leather Or For Making Footwear Or Other Articles Of Hides, Skins, Etc, Except Sew Mch | 845390 | Parts Of Mach F Prep Or Make Art Of Hides, leather.
8454100000 | Converters Used In Metallurgy Or Foundries | 845410 | Converters Used In Metallurgy Or Foundries.
8456907100 | Machine Tools For Working Any Material Except Metal, By Removal Of Material By Electron-Beam, Ionic-Beam Or Plasma Arc Processes, Nesoi | 845690 | Other.
8459100000 | Way-type Unit Head Machines | 845910 | Way-type Unit Head Machines For Removing Metal.
8459490010 | Other Boring Machines, Not Numerically Controlled, Metal Removing, Used Or Rebuilt | 845949 | Other Boring Machines, Nesoi.
8459490020 | Other Boring Machines, Not Numerically Controlled, Metal Removing, Valued Under $3,025 Each, New | 845949 | Other Boring Machines, Nesoi.
8459490030 | Boring Machines, Vertical, Metal Removing, Except Numerically Controlled, Valued $3,025 And Over Each, New | 845949 | Other Boring Machines, Nesoi.
8459490090 | Boring Machines, Except Vertical, Metal Removing, Exc Numerically Controlled, Valued $3,025 And Over, New | 845949 | Other Boring Machines, Nesoi.
8459704000 | Threading Or Tapping Machines, Metal Removing, Numerically Controlled | 845970 | Threading Or Tapping Machines, For Removing Metal.
8459708040 | Threading Or Tapping Machines, Metal Removing, Except Numerically Controlled, Used Or Rebuilt | 845970 | Threading Or Tapping Machines, For Removing Metal.
8459708060 | Threading Or Tapping Machines, Metal Removing, Except Numerically Controlled, Valued Under $3,025 Each, New | 845970 | Threading Or Tapping Machines, For Removing Metal.
8459708080 | Threading Or Tapping Machines, Metal Removing, Except Numerically Controlled, Valued $3,025 And Over Each, New, Nesoi | 845970 | Threading Or Tapping Machines, For Removing Metal.
8460900010 | Machine Tools For Finishing Metal By Removing Metal Using Grinding Stones, Abrasives Or Polishing Products, Nesoi, Used Or Rebuilt | 846090 | Mach Tools For Deburring, Polishing Metal Etc.
8460900020 | Machine Tools For Finishing Metal By Removing Metal Using Grinding Stones, Abrasives Or Polishing Products, Nesoi, Valued Under $3,025 Each, New | 846090 | Mach Tools For Deburring, Polishing Metal Etc.
8460900060 | Machine Tools For Finishing Metal By Removing Metal Using Grinding Stones, Abrasives Or Polishing Products, Nesoi, N/C, Valued $2,500 & Over Each, New | 846090 | Mach Tools For Deburring, Polishing Metal Etc.
8460900080 | Machine Tools For Finishing Metal By Removing Metal Using Grinding Stones, Abrasives Or Polishing Products, Nesoi, Except N/C, Valued $3,025 And | 846090 | Mach Tools For Deburring, Polishing Metal Etc.
8461204000 | Shaping Or Slotting Machines, Metal Removing, Numerically Controlled | 846120 | Shaping Or Slotting Machines For Removing Metal.
8461208030 | Shaping Or Slotting Machines, Metal Removing, Except Numerically Controlled, Used Or Rebuilt | 846120 | Shaping Or Slotting Machines For Removing Metal.
8461208070 | Shaping Or Slotting Machines, Metal Removing, Except Numerically Controlled, Valued Under $3,025 Each, New | 846120 | Shaping Or Slotting Machines For Removing Metal.
8461208090 | Shaping Or Slotting Machines, Metal Removing, Except Numerically Controlled, Valued $3,025 And Over Each, New | 846120 | Shaping Or Slotting Machines For Removing Metal.
8461300020 | Broaching Machines, Metal Removing, Used Or Rebuilt | 846130 | Broaching Machines For Removing Metal.
8461300040 | Broaching Machines, Metal Removing, Valued Under $3,025 Each, New | 846130 | Broaching Machines For Removing Metal.
8461300060 | Broaching Machines, Metal Removing, Numerically Controlled, Valued $2,500 And Over Each, New | 846130 | Broaching Machines For Removing Metal.
8461300080 | Broaching Machines, Metal Removing, Except Numerically Controlled, Valued $2,500 And Over Each, New | 846130 | Broaching Machines For Removing Metal.
8461401010 | Gear Cutting Machines, Metal Removing, Used Or Rebuilt | 846140 | Gear Cutting, Gear Grinding Or Gear Finish Machine.
8461401050 | Gear Hobbers, Metal Removing By Cutting, New | 846140 | Gear Cutting, Gear Grinding Or Gear Finish Machine.
8461401070 | Gear Shapers, Metal Removing By Cutting, New | 846140 | Gear Cutting, Gear Grinding Or Gear Finish Machine.
8461401090 | Gear Cutting Machines, Metal Removing, Except Gear Hobbers Or Shapers, New | 846140 | Gear Cutting, Gear Grinding Or Gear Finish Machine.
8461405020 | Gear Grinding Or Finishing Machines, Metal Removing, Used Or Rebuilt | 846140 | Gear Cutting, Gear Grinding Or Gear Finish Machine.
8461405040 | Gear Grinding Or Finishing Machines, Metal Removing, Valued Under $3,025 Each, New | 846140 | Gear Cutting, Gear Grinding Or Gear Finish Machine.
8461405060 | Gear Grinding Or Finishing Machines, Metal Removing, Valued $2,500 And Over, New | 846140 | Gear Cutting, Gear Grinding Or Gear Finish Machine.
8461903020 | Planing Machines, Numerically Controlled, Metal Removing, Used Or Rebuilt | 846190 | Mach Tools Workng By Removng Metal, Etc Nesoi.
8461903040 | Planing Machines, Metal Removing, Numerically Controlled, Valued $3,025 And Over Each, New | 846190 | Mach Tools Workng By Removng Metal, Etc Nesoi.
8461903060 | Machine Tools Working By Removing Metal, Numerically Controlled, Used Or Rebuilt, Nesoi | 846190 | Mach Tools Workng By Removng Metal, Etc Nesoi.
8461903080 | Machine Tools Working By Removing Metal, Numerically Controlled, Valued $3,025 And Over, New, Nesoi | 846190 | Mach Tools Workng By Removng Metal, Etc Nesoi.
8461906010 | Planing Machines, Other Than Numerically Controlled, Metal Removing, Used Or Rebuilt | 846190 | Mach Tools Workng By Removng Metal, Etc Nesoi.
8461906020 | Planing Machines, Not Numerically Controlled, Metal Removing, Valued Under $3,025 Each, New | 846190 | Mach Tools Workng By Removng Metal, Etc Nesoi.
8461906030 | Planing Machines, Metal Removing, Except Numerically Controlled, Valued $3,025 And Over Each, New | 846190 | Mach Tools Workng By Removng Metal, Etc Nesoi.
8461906040 | Machine Tools Working By Removing Metal, Not Numerically Controlled, Used Or Rebuilt, Nesoi | 846190 | Mach Tools Workng By Removng Metal, Etc Nesoi.
8461906050 | Machine Tools Working By Removing Metal, Not Numerically Controlled, Valued Under $3,025 Each, New, Nesoi | 846190 | Mach Tools Workng By Removng Metal, Etc Nesoi.
8461906090 | Machine Tools Working By Removing Metal, Nesoi, Except Numerically Controlled, Valued $3,025 And Over, New | 846190 | Mach Tools Workng By Removng Metal, Etc Nesoi.
8462110010 | Closed Die Forging Machines, Used Or Rebuilt | 846211 | Closed Die Forging Machines, Hot Forming.
8462110050 | Closed Die Forging Machines, Nesoi | 846211 | Closed Die Forging Machines, Hot Forming.
8462190010 | Forging Or Die-stamping Machines (Including Presses) And Hammers, Metal Forming, Used Or Rebuilt, Nesoi | 846219 | Hot Forming Mach For Forging And Hot Hammers Nesoi.
8462190030 | Headers And Upsetters, Including Cold Headers, Metal Forming, New | 846219 | Hot Forming Mach For Forging And Hot Hammers Nesoi.
8462190035 | Mechanical Transfer Presses, New | 846219 | Hot Forming Mach For Forging And Hot Hammers Nesoi.
8462190055 | Forging Or Die-stamping Machines (Including Presses) And Hammers, Except Headers And Upsetters, Metal Forming, New, Nesoi | 846219 | Hot Forming Mach For Forging And Hot Hammers Nesoi.
8465200000 | Machining Centers For Cork, Bone, Hard Rubber, Hard Plastics Or Similar Hard Materials, Nesoi | 846520 | Machining Centers For Mach Working Hard Materials.
8465930004 | Belt Sanders For Woodworking, For A Belt Width 60 Cm Or Wider, Used Or Rebuilt | 846593 | Grind Sand Etc Mach For Work Wood Cork Bone Etc.
8465930012 | Grinding, Sanding Or Polishing Machines, Except Wide Belt Sanders, Woodworking, Used Or Rebuilt | 846593 | Grind Sand Etc Mach For Work Wood Cork Bone Etc.
8465930027 | Edge Belt Sanders, Woodworking, New | 846593 | Grind Sand Etc Mach For Work Wood Cork Bone Etc.
8465930065 | Belt Sanders, (Except Edge Belt Sanders), For Woodworking, For A Belt Width 60 Cm Or Wider, New | 846593 | Grind Sand Etc Mach For Work Wood Cork Bone Etc.
8465930075 | Grinding, Sanding Or Polishing Machines, Woodworking, New, Nesoi | 846593 | Grind Sand Etc Mach For Work Wood Cork Bone Etc.
8465930091 | Grinding, Sanding Or Polishing Machines For Cork, Bone, Hard Rubber, Hard Plastics Or Similar Hard Materials, Nesoi | 846593 | Grind Sand Etc Mach For Work Wood Cork Bone Etc.
8465940005 | Bending Or Assembling Machines, Woodworking, Used Or Rebuilt | 846594 | Bend Assmblng Mach For Working Wood Cork Bone Etc.
8465940015 | Doweling Machines, Woodworking, New | 846594 | Bend Assmblng Mach For Working Wood Cork Bone Etc.
8465940025 | Edgebanding Machines, Woodworking, New | 846594 | Bend Assmblng Mach For Working Wood Cork Bone Etc.
8465940035 | Laminating Machines, Woodworking, New | 846594 | Bend Assmblng Mach For Working Wood Cork Bone Etc.
8465940045 | Cold Presses, Woodworking, New | 846594 | Bend Assmblng Mach For Working Wood Cork Bone Etc.
8465940055 | Presses, (Except Cold), Woodworking, New | 846594 | Bend Assmblng Mach For Working Wood Cork Bone Etc.
8465940065 | Bending Or Assembling Machines, Woodworking, Nesoi, New | 846594 | Bend Assmblng Mach For Working Wood Cork Bone Etc.
8465940091 | Bending Or Assembling Machines For Cork, Bone, Hard Rubber, Hard Plastics Or Similar Hard Materials, Nesoi | 846594 | Bend Assmblng Mach For Working Wood Cork Bone Etc.
8465960015 | Log Splitters, Woodworking Machinery | 846596 | Split Slice Etc Mach For Workng Wood Cork Bone Etc.
8465960025 | Chippers, Woodworking Machinery | 846596 | Split Slice Etc Mach For Workng Wood Cork Bone Etc.
8465960030 | Hogs, Woodworking Machinery | 846596 | Split Slice Etc Mach For Workng Wood Cork Bone Etc.
8465960040 | Splitting, Slicing Or Paring Machines, Woodworking, Nesoi | 846596 | Split Slice Etc Mach For Workng Wood Cork Bone Etc.
8465960051 | Splitting, Slicing Or Paring Machines For Cork, Bone, Hard Rubber, Hard Plastics Or Similar Hard Materials | 846596 | Split Slice Etc Mach For Workng Wood Cork Bone Etc.
8466100110 | Tool Holders For Forming-type Or Cutting Type Dies | 846610 | Tool Holdrs & Self-opening Dieheads For Machines.
8466100130 | Holders For Replaceable Cutting Or Drill Inserts | 846610 | Tool Holdrs & Self-opening Dieheads For Machines.
8466100175 | Tool Holders And Self-opening Dieheads, Nesoi | 846610 | Tool Holdrs & Self-opening Dieheads For Machines.
8466201010 | Jigs And Fixtures For Machine Tools Used In Cutting Gears | 846620 | Work Holders For Machine Tools.
8466201090 | Work Holders For Machine Tools Used In Cutting Gears Other Than Jigs And Fixtures | 846620 | Work Holders For Machine Tools.
8466208020 | Jigs And Fixtures For Metalworking Machine Tools | 846620 | Work Holders For Machine Tools.
8466208035 | Work Holders For Metalworking Machine Tools, Other Than Jigs And Fixtures | 846620 | Work Holders For Machine Tools.
8466208040 | Jigs And Fixtures, Nesoi, For Machine Tools | 846620 | Work Holders For Machine Tools.
8466208065 | Work Holders For Machine Tools, Nesoi | 846620 | Work Holders For Machine Tools.
8466920020 | Parts For Woodworking Machines | 846692 | Parts For Machines Of Heading 8465.
8466920080 | Other Parts For Machine Tools For Working Wood, Cork, Bone, Hard Rubber, Hard Plastics Or Similar Hard Materials | 846692 | Parts For Machines Of Heading 8465.
8468901000 | Parts Of Hand-directed Or Controlled Machinery And Apparatus For Soldering, Brazing, Welding Or Surface Tempering, Other Than Those Of Heading 8515 | 846890 | Machy & Appr Pts For Soldrng Brazng Weldng, Nesoi.
8468905000 | Parts Of Machinery And Apparatus, Nesoi, For Soldering, Brazing, Welding Or Surface Tempering, Other Than Those Of Heading 8515 | 846890 | Machy & Appr Pts For Soldrng Brazng Weldng, Nesoi.
8472100000 | Duplicating Machines | 847210 | Duplicating Machines.
8472300000 | Machines For Sorting Or Folding Mail, For Inserting Mail In Envelopes, Postage Affixing Or Canceling Machines, Machines For Opening Or Sealing Mail | 847230 | Mail Sorting, Opening, Postage Affixing, etc, Mach.
8473210000 | Parts And Accessories Of Electronic Calculators And Calculating Machines | 847321 | Parts Of Electronic Calculating Machines.
8474100010 | Sorting, Screening, Separating Or Washing Machines For Earth, Stone, Ores, Or Other Mineral Substances In Solid Form, Portable | 847410 | Sorting Etc Machines For Earth Stone Mineral Subs.
8474100090 | Sorting, Screening, Separating Or Washing Machines For Earth, Stone, Ores, Or Other Mineral Substances In Solid Form, Stationary | 847410 | Sorting Etc Machines For Earth Stone Mineral Subs.
8474390000 | Mixing Or Kneading Machines, Nesoi, For Earth, Stone, Ores, Or Other Mineral Substances In Solid Form | 847439 | Mixing Or Kneading Mach, Nesoi, For Mineral Substn.
8474800010 | Machinery, Nesoi, Designed For Use With Ceramic Paste, Unhardened Cements And Plastering Materials | 847480 | Mach For Agglmrtng Solid Mnrl Fuel & Form Foun Mld.
8474800020 | Machines For Forming Foundry Molds Of Sand | 847480 | Mach For Agglmrtng Solid Mnrl Fuel & Form Foun Mld.
8474800090 | Machines, Nesoi, For Agglomerating, Shaping, Or Molding Solid Mineral Fuels Or Other Mineral Products In Powder Or Paste Form | 847480 | Mach For Agglmrtng Solid Mnrl Fuel & Form Foun Mld.
8475210000 | Machines For Making Optical Fibers And Preforms Thereof | 847521 | Mach For Making Optical Fibers & Preforms Thereof.
8475290000 | Machines For Manufacturing Or Hot Working Glass Or Glassware, Nesoi | 847529 | Machines For Manuf Or Hot Working Glass, Nesoi.
8475901000 | Parts Of Machines For Assembling Electric Or Electronic Lamps, Tubes Or Flashbulbs, In Glass Envelopes | 847590 | Parts Of Mach For Assmbl Elec Lamp Etc Mfg Glsswre.
8475909000 | Parts Of Machines For Manufacturing Or Hot Working Glass Or Glassware | 847590 | Parts Of Mach For Assmbl Elec Lamp Etc Mfg Glsswre.
8477400100 | Vacuum-molding Machines And Other Thermoforming Machines; Nesoi | 847740 | Vacuum-molding & Oth Therm Mach For Wk Rub Or Plas.
8477510010 | Machinery For Molding Or Retreading Pneumatic Tires | 847751 | Mach For Mold/retrd Pnmtic Tires/form Inner Tubes.
8477510090 | Machinery For Molding Or Otherwise Forming Inner Tubes | 847751 | Mach For Mold/retrd Pnmtic Tires/form Inner Tubes.
8477590100 | Machinery For Molding Or Otherwise Forming Rubber Or Plastics, Nesoi | 847759 | Mach, Nesoi, F Moldg Or Formg Rubber Or Plastics.
8477900010 | Parts Of Injection-molding Machines For Rubber Or Plastics | 847790 | Pts Mach For Work Rubber/plast/mfg Rbbr/plstc Prod.
8477900020 | Parts Of Extruders For Rubber Or Plastics | 847790 | Pts Mach For Work Rubber/plast/mfg Rbbr/plstc Prod.
8477900030 | Parts Of Blow-molding Machines | 847790 | Pts Mach For Work Rubber/plast/mfg Rbbr/plstc Prod.
8477900040 | Parts Of Machines For Forming Pneumatic Tires | 847790 | Pts Mach For Work Rubber/plast/mfg Rbbr/plstc Prod.
8477900096 | Parts Of Machinery For Working Rubber Or Plastics Or For The Manufacture Of Products From These Materials, Nesoi | 847790 | Pts Mach For Work Rubber/plast/mfg Rbbr/plstc Prod.
8479100040 | Pavers, Finishers And Spreaders For Concrete, For Public Works, Building Or Similar Use | 847910 | Machinery For Public Works, Building Or The Like.
8479100060 | Pavers, Finishers And Spreaders For Bituminous Material, For Public Works, Building Or Similar Use | 847910 | Machinery For Public Works, Building Or The Like.
8479100080 | Machinery For Public Works, Building Or The Like, Except Concrete And Bituminous Pavers, Finishers And Spreaders | 847910 | Machinery For Public Works, Building Or The Like.
8479300000 | Presses For The Manufacture Of Particle Board Or Fiber Building Board Of Wood Or Other Ligneous Materials And Oth Machinery For Treating Wood Or Cork | 847930 | Presses F Partcle Bd & Oth Mch F Treat Wood, Cork.
8479500000 | Industrial Robots, Nesoi | 847950 | Industrial Robots For Multiple Uses.
8479899850 | Oil And Gas Field Wire Line And Downhole Equipment | 847989 | Mach & Mechanical Appl W Individual Function Nesoi.
8479899900 | Machines And Mechanical Appliances Having Individual Functions, Not Specified Or Included Elsewhere In Chapter 84 | 847989 | Mach & Mechanical Appl W Individual Function Nesoi.
8479909640 | Parts Of Industrial Robots, Nesoi | 847990 | Pts Of Mach/mechncl Appl W Indvdul Function Nesoi.
8479909650 | Machinery For Public Works, Building Or The Like; Parts | 847990 | Pts Of Mach/mechncl Appl W Indvdul Function Nesoi.
8479909660 | Parts Of Presses For Manufacture Of Particle Board Or Fiber Building Board Of Wood Or Oth Ligneous Material & Oth Mach For Treating Wood | 847990 | Pts Of Mach/mechncl Appl W Indvdul Function Nesoi.
8479909665 | Parts Of Machines Or Mechanical Appliances For Treating Metal, Nesoi | 847990 | Pts Of Mach/mechncl Appl W Indvdul Function Nesoi.
8479909698 | Parts Of Machines And Mechanical Appliances Having Individual Functions, Not Specified Or Included Elsewhere In Chapter 84, Nesoi | 847990 | Pts Of Mach/mechncl Appl W Indvdul Function Nesoi.
8480200000 | Mold Bases | 848020 | Mold Bases.
8480300000 | Molding Patterns | 848030 | Molding Patterns.
8480600000 | Molds For Mineral Materials | 848060 | Molds For Mineral Materials.
8481100020 | Pressure-reducing Valves, Hydraulic Fluid Power Type | 848110 | Pressure-reducing Valves.
8481100040 | Pressure-reducing Valves, Pneumatic Fluid Power Type, Filter-regulators And Filter-regulator-lubricators | 848110 | Pressure-reducing Valves.
8481100060 | Pressure-reducing Valves, Pneumatic Fluid Power Type, Nesoi | 848110 | Pressure-reducing Valves.
8481100090 | Pressure-reducing Valves, Nesoi | 848110 | Pressure-reducing Valves.
8481200010 | Hydraulic Valves, Directional Control, Manual Type | 848120 | Valves F Oleohydraulic Or Pneumatic Transmissions.
8481200020 | Hydraulic Valves, Directional Control, Solenoid Type | 848120 | Valves F Oleohydraulic Or Pneumatic Transmissions.
8481200030 | Hydraulic Valves, Directional Control, Nesoi | 848120 | Valves F Oleohydraulic Or Pneumatic Transmissions.
8481200040 | Hydraulic Valves, Flow Control Type | 848120 | Valves F Oleohydraulic Or Pneumatic Transmissions.
8481200050 | Hydraulic Valves, Nesoi | 848120 | Valves F Oleohydraulic Or Pneumatic Transmissions.
8481200060 | Pneumatic Valves, Directional Control, Solenoid Type | 848120 | Valves F Oleohydraulic Or Pneumatic Transmissions.
8481200070 | Pneumatic Valves, Nesoi, Directional Control | 848120 | Valves F Oleohydraulic Or Pneumatic Transmissions.
8481200080 | Pneumatic Valves, Nesoi | 848120 | Valves F Oleohydraulic Or Pneumatic Transmissions.
8481400000 | Safety Or Relief Valves | 848140 | Safety Or Relief Valves.
8482101000 | Ball Bearings With Integral Shafts | 848210 | Ball Bearings.
8482105004 | Unground Bearings | 848210 | Ball Bearings.
8482105008 | Thrust Ball Bearings | 848210 | Ball Bearings.
8482105012 | Linear Ball Bearings | 848210 | Ball Bearings.
8482105016 | Angular Contact Bearings, Wheel Hub Units, Flanged | 848210 | Ball Bearings.
8482105024 | Angular Contact Bearings, Wheel Hub Units, Other Than Flanged | 848210 | Ball Bearings.
8482105028 | Angular Contact Ball Bearings, Nesoi | 848210 | Ball Bearings.
8482105032 | Radial Bearings, Single Row, Maximum Or Full Capacity Type | 848210 | Ball Bearings.
8482105036 | Radial Bearings, Single Row, Having An Outside Diameter Of Under 9 Mm | 848210 | Ball Bearings.
8482105044 | Radial Bearings, Single Row, Having An Outside Diameter Of 9 Mm And Over But Not Over 30 Mm | 848210 | Ball Bearings.
8482105048 | Radial Bearings, Single Row, Having An Outside Diameter Of Over 30 Mm But Not Over 52 Mm | 848210 | Ball Bearings.
8482105052 | Radial Bearings, Single Row Having An Outside Diameter Of Over 52 Mm But Not Over 100 Mm | 848210 | Ball Bearings.
8482105056 | Radial Bearings, Single Row Having An Outside Diameter Of Over 100 Mm | 848210 | Ball Bearings.
8482105060 | Double Row Ball Bearings, Radial | 848210 | Ball Bearings.
8482105064 | Radial Ball Bearings, Nesoi | 848210 | Ball Bearings.
8482105068 | Ball Bearings, Nesoi | 848210 | Ball Bearings.
8482200020 | Tapered Roller Bearings, Cup And Cone Assemblies Entered As A Set, Wheel Hub Units, Flanged | 848220 | Tapered Roll Brg, Incl Cone & Roller Assemblies.
8482200030 | Tapered Roller Bearings, Cup And Cone Assemblies Entered As A Set, Wheel Hub Units, Other Than Flanged | 848220 | Tapered Roll Brg, Incl Cone & Roller Assemblies.
8482200040 | Tapered Roller Bearings, Cup And Cone Assemblies Entered As A Set, With Cup Having Outside Diameter Not Exceeding 102 Mm | 848220 | Tapered Roll Brg, Incl Cone & Roller Assemblies.
8482200060 | Tapered Roller Bearings, Cup And Cone Assemblies Entered As A Set, With Cup Having Outside Diameter Exceeding 102mm | 848220 | Tapered Roll Brg, Incl Cone & Roller Assemblies.
8482200070 | Tapered Roller Bearings, Cone Assemblies Entered Separately, For Cups Having Outside Diameter Not Exceeding 102 Mm | 848220 | Tapered Roll Brg, Incl Cone & Roller Assemblies.
8482200080 | Tapered Roller Bearings, Cone Assemblies Entered Separately, For Cups Having Outside Diameter Exceeding 102 Mm | 848220 | Tapered Roll Brg, Incl Cone & Roller Assemblies.
8482300040 | Spherical Roller Bearings, Single Row | 848230 | Spherical Roller Bearings.
8482300080 | Spherical Roller Bearings, Other Than Single Row | 848230 | Spherical Roller Bearings.
8482400000 | Needle Roller Bearings | 848240 | Needle Roller Bearing, incl Cage & Needle Rol Assem.
8482800020 | Combined Ball & Spherical Roller Bearings | 848280 | Oth Ball Or Roll Brg, Inc Combined Ball/roll Brgs.
8482800040 | Combined Ball & Needle Roller Bearings | 848280 | Oth Ball Or Roll Brg, Inc Combined Ball/roll Brgs.
8482800060 | Combined Ball & Other Cylindrical Roller Bearings | 848280 | Oth Ball Or Roll Brg, Inc Combined Ball/roll Brgs.
8482800080 | Other Ball Or Roller Bearings, Including Combined Ball/Roller Bearings, Nesoi | 848280 | Oth Ball Or Roll Brg, Inc Combined Ball/roll Brgs.
8482910010 | Alloy Steel Balls For Ball Bearings | 848291 | Balls, Needles And Rollers For Bearings.
8482910020 | Balls For Ball Bearings, Except Alloy Steel | 848291 | Balls, Needles And Rollers For Bearings.
8482910040 | Needles For Needle Roller Bearings | 848291 | Balls, Needles And Rollers For Bearings.
8482910050 | Tapered Rollers For Roller Bearings | 848291 | Balls, Needles And Rollers For Bearings.
8482910070 | Spherical Rollers For Roller Bearings | 848291 | Balls, Needles And Rollers For Bearings.
8482910080 | Other Cylindrical Rollers For Roller Bearings | 848291 | Balls, Needles And Rollers For Bearings.
8482910090 | Rollers, Nesoi, For Roller Bearings | 848291 | Balls, Needles And Rollers For Bearings.
8482991010 | Inner And Outer Races For Ball Bearings (Including Ball Bearings With Integral Shafts) | 848299 | Parts Of Bearings, Nesoi.
8482991050 | Parts, Except Inner And Outer Races, For Ball Bearings, (Including Ball Bearings With Integral Shafts) | 848299 | Parts Of Bearings, Nesoi.
8482993010 | Cups Entered Separately For Tapered Roller Bearings | 848299 | Parts Of Bearings, Nesoi.
8482993050 | Parts, Except Cups Entered Separately, For Tapered Roller Bearings | 848299 | Parts Of Bearings, Nesoi.
8482995000 | Parts Of Spherical Roller Bearings | 848299 | Parts Of Bearings, Nesoi.
8482997030 | Parts, Nesoi, For Needle Bearings | 848299 | Parts Of Bearings, Nesoi.
8482997060 | Parts, Nesoi, For Cylindrical Roller Bearings, Nesoi | 848299 | Parts Of Bearings, Nesoi.
8482997090 | Parts, Nesoi, For Roller Bearings Or For Combined Ball/Roller Bearings, Nesoi | 848299 | Parts Of Bearings, Nesoi.
8484100000 | Gaskets And Similar Joints Of Metal Sheeting Combined With Other Material Or Of Two Or More Layers Of Metal | 848410 | Gaskets, Metal Layers, Or Other Matl, Mech Seals.
8484200000 | Mechanical Seals | 848420 | Mechanical Seals.
8484900000 | Sets Or Assortments Of Gaskets And Similar Joints, Dissimilar In Composition, Put Up In Pouches, Envelopes Or Similar Packings | 848490 | Sets Or Assortments Of Gaskets And Similar Joints.
8486900000 | Machines Used For The Manufacture Of Boules Or Wafers, Semiconductors, Electronic Integrated Circuits Or Flat Panel Displays; Parts & Accessories | 848690 | Parts & Accsesories For Mach To Man. Semicnt, Etc.
8487900040 | Oil Seals, Other Than Those Of Chapter 40, Machinery Parts Not Containing Electrical Features | 848790 | Machinery Parts, Non-electric, Nesoi.
8487900080 | Machinery Parts Not Containing Electrical Features, And Not Specified Or Included Elsewhere In Chapter 84, Except Ships' Propellers | 848790 | Machinery Parts, Non-electric, Nesoi.
8501202000 | Universal Ac/Dc Electric Motors Of An Output Exceeding 37.5 W But Not Exceeding 74.6 W | 850120 | Universal Ac/dc Motors Of An Output &gt; 37.5 W.
8501203000 | Universal Ac/Dc Electric Motors, Of An Output Exceeding 74.6 W (1/10 Hp) But Not Exceeding 746 W (1 Hp) | 850120 | Universal Ac/dc Motors Of An Output &gt; 37.5 W.
8501206000 | Universal Ac/Dc Electric Motors Of An Output Of 746 W And Over | 850120 | Universal Ac/dc Motors Of An Output &gt; 37.5 W.
8501312000 | Dc Motors Of An Output Exceeding 37.5 W But Not Exceeding 74.6 W, Nesoi | 850131 | Dc Motors & Generators W Output N Ov 750 W.
8501313000 | Dc Motors, Exceeding 74.6 W (1/10 Hp) But Not Exceeding 746 W (1 Hp), Nesoi | 850131 | Dc Motors & Generators W Output N Ov 750 W.
8501316000 | Dc Motors Of An Output Exceeding 746 W But Not Exceeding 750 W, Nesoi | 850131 | Dc Motors & Generators W Output N Ov 750 W.
8501318100 | Dc Generators, Not Exceeding 750 W, Nesoi | 850131 | Dc Motors & Generators W Output N Ov 750 W.
8501332000 | Dc Electric Motors, Exceeding 75 Kw (100 Hp) But Not Exceeding 149.2 Kw (200 Hp) | 850133 | Dc Motors & Generators W Output &gt; 75kw; N Ov 375kw.
8501333000 | Dc Motors, 149.2kw Or More But Not Exceeding 150kw | 850133 | Dc Motors & Generators W Output &gt; 75kw; N Ov 375kw.
8501334040 | Dc Motors Of An Output Exceeding 150 Kw But Not Exceeding 373 Kw | 850133 | Dc Motors & Generators W Output &gt; 75kw; N Ov 375kw.
8501334060 | Dc Motors Of An Output Exceeding 373 Kw But Not Exceeding 375 Kw | 850133 | Dc Motors & Generators W Output &gt; 75kw; N Ov 375kw.
8501336100 | Dc Generators Of An Output Exceeding 75kw But Not Exceeding 375kw | 850133 | Dc Motors & Generators W Output &gt; 75kw; N Ov 375kw.
8501610100 | Ac Generators (Alternators) Of An Output Not Exceeding 75 Kva, Nesoi | 850161 | Ac Generators (alternators) &lt;=75 Kva Output.
8501620100 | Ac Generators (Alternators) Of An Output Not Exceeding 75 Kva | 850162 | Ac Generators (alternator) &gt; 75 Kva But =&lt; 375kva.
8501630100 | Ac Generators (Alternator) Of An Output Exceeding 75 Kva But Not Exceeding 375 Kva | 850163 | Ac Generators (alternator) &gt; 375 Kva But =&lt; 750kva.
8501640120 | Ac Generators (Alternators), Output Exceeding 750 Kva But Not Exceeding 10,000 Kva | 850164 | Ac Generators Of An Output Exceeding 750 Kva.
8501640130 | Ac Generators (Alternators), Output Exceeding 10,000 Kva But Not Exceeding 40,000 Kva | 850164 | Ac Generators Of An Output Exceeding 750 Kva.
8501640150 | Ac Generators (Alternators), Output Exceeding 40,000 Kva | 850164 | Ac Generators Of An Output Exceeding 750 Kva.
8502200040 | Generating Sets With Spark-ignition Internal Combustion Piston Engines Of An Not Exceeding 5 Kva | 850220 | Generating Set W Spark-ignition Int Combustion Eng.
8502200080 | Generating Sets With Spark Ignition Internal Combustion Piston Engines Of An Output Exceeding 5kw, Electric, Gasoline | 850220 | Generating Set W Spark-ignition Int Combustion Eng.
8502310000 | Wind-powered Electric Generating Sets, Nesoi | 850231 | Generating Sets, Electric, Wind-powered.
8502390010 | Electric Generating Sets Powered By Gas Turbines, Nesoi | 850239 | Generating Sets, Electric, Nesoi.
8502390090 | Electric Generating Sets, Other Than Powered By Gas Turbines, Nesoi | 850239 | Generating Sets, Electric, Nesoi.
8502400000 | Electric Rotary Converters | 850240 | Electric Rotary Converters.
8504320000 | Transformers, Having A Power Handling Capacity Exceeding 1 Kva But Not Exceeding 16 Kva, Nesoi | 850432 | Transformers, Nesoi,&gt; 1 Kva But =&lt; 16 Kva.
8504330020 | Transformers, Having A Power Handling Capacity Exceeding 16 Kva But Not Exceeding 50 Kva, Nesoi | 850433 | Transf Nesoi, Power Handling Cap &gt;16 Nov 500 Kva.
8504330040 | Transformers, Having A Power Handling Capacity Exceeding 50 Kva But Not Exceeding 500 Kva, Nesoi | 850433 | Transf Nesoi, Power Handling Cap &gt;16 Nov 500 Kva.
8504340000 | Transformers, Having A Power Handling Capacity Exceeding 500 Kva, Nesoi | 850434 | Transformers, Nesoi, &gt; 500 Kva.
8505200000 | Electromagnetic Couplings, Clutches And Brakes | 850520 | Electromagnetic Couplings, Clutches And Brakes.
8506900000 | Primary Battery And Cell Parts | 850690 | Primary Battery And Cell Parts.
8507300000 | Nickel-cadmium Storage Batteries | 850730 | Nickel-cadmium Storage Batteries.
8514310000 | Electron Beam Furnaces | 851431 | Electron Beam Furnaces.
8514320000 | Plasma And Vacuum Arc Furnaces | 851432 | Plasma And Vacuum Arc Furnaces.
8514390000 | Industrial Or Laboratory Electric Furnaces And Ovens, Nesoi | 851439 | Industrial/lab Electric Furnaces And Ovens, Nesoi.
8525502010 | Television Apparatus For The Reception Of Television Signals Relayed By Television Satellite | 852550 | Transmission App For Radio-broadcast Or Television.
8525502050 | Television Transmission Apparatus, Nesoi | 852550 | Transmission App For Radio-broadcast Or Television.
8525506010 | Radio Transmitters For Civil Aircraft | 852550 | Transmission App For Radio-broadcast Or Television.
8525506050 | Radio Transmitters Capable Of Transmitting On Frequencies Not Exceeding 30 Mhz, Not For Use In Civil Aircraft | 852550 | Transmission App For Radio-broadcast Or Television.
8525508020 | Transmission Apparatus For Civil Aircraft, Nesoi | 852550 | Transmission App For Radio-broadcast Or Television.
8525508040 | Transmision Apparatus For Radiotelephony, Radiotelegraphy, Radiobroadcasting, Nesoi | 852550 | Transmission App For Radio-broadcast Or Television.
8526920000 | Radio Remote Control Apparatus | 852692 | Radio Remote Control Apparatus.
8530100000 | Electrical Signaling, Safety Or Traffic Control Equipment For Railways, Streetcar Lines Or Subways | 853010 | Electrical Signaling Or Traffic Control Eqpt Rail.
8530900000 | Electrical Signaling Parts For Traffic Control, Safety Equipment For Railway, Subways, Roads, Airfields, Waterways And Parking Facilities | 853090 | Parts For Elc Signaling, Traffic, Safety Equipmnt.
8532100000 | Fixed Capacitors, Designed For Use In 50/60 Hz Circuits, With Reactive Power Capacity Not Less Than 0.5 Kvar | 853210 | Fixed Capacitors, 50-60 Hz, Power, Cpcty =&gt;.5 Kvar.
8533290000 | Fixed Resistors, For A Power Handling Capacity Exceeding 20 W, Nesoi | 853329 | Fixed Resistors Nesoi &gt; 20 W Power Hdlg Cpcy.
8533900000 | Electric Resistor Parts | 853390 | Parts For Resistors, Rheostats, Potetiometers.
8535290020 | Automatic Circuit Breakers In Circuits Of 345 Kv Or More | 853529 | Auto Circt Breaker Voltage 72.5 Kv Or More.
8535290040 | Automatic Circuit Breakers In Circuits Of 72.5 Kv But Less Than 345 Kv | 853529 | Auto Circt Breaker Voltage 72.5 Kv Or More.
8535300040 | Isolating And Make And Break Switches, Knife Type, For A Voltage Exceeding 1,000 V | 853530 | Isolating Switch & Make-&-break Swtch Volt &gt; 1,000v.
8535300080 | Isolating Switches And Make-and-break Switches, For A Voltage Exceeding 1,000 V, Nesoi | 853530 | Isolating Switch & Make-&-break Swtch Volt &gt; 1,000v.
8535400000 | Lightning Arrestors, Voltage Limiters And Surge Suppressors, For Voltage Exceeding 1,000 V | 853540 | Lightning Arresters,voltage Limiters,surge Suppres.
8535908020 | Terminals, Electric Splices & Electric Couplings For A Voltage Exceeding 1,000 V | 853590 | Elect Appr F Prtct To Elect Circt &gt;1,000 V Nesoi.
8535908040 | Electrical Connectors, For A Voltage Exceeding 1,000 V, Nesoi | 853590 | Elect Appr F Prtct To Elect Circt &gt;1,000 V Nesoi.
8535908090 | Electrical Apparatus For Switching Or Protecting Electrical Circuits, For A Voltage Exceeding 1,000 V, Nesoi | 853590 | Elect Appr F Prtct To Elect Circt &gt;1,000 V Nesoi.
8537106000 | Motor Control Centers, For A Voltage Not Exceeding 1,000 V | 853710 | Controls Etc W Elect Appr F Elect Cont Nov 1,000 V.
8537109020 | Switchgear Assemblies And Switchboards For A Voltage Not Exceeding 1,000 V | 853710 | Controls Etc W Elect Appr F Elect Cont Nov 1,000 V.
8537109030 | Numerical Controls For Controlling Machine Tools, For Voltage Not Exceeding 1,000 V | 853710 | Controls Etc W Elect Appr F Elect Cont Nov 1,000 V.
8537109050 | Panel Boards And Distribution Boards, For Voltages Lt= 1,000 Volts | 853710 | Controls Etc W Elect Appr F Elect Cont Nov 1,000 V.
8537109060 | Programable Controllers For A Voltage Not Exceeding 1,000 Volts | 853710 | Controls Etc W Elect Appr F Elect Cont Nov 1,000 V.
8537109090 | Boards, Panels, Consoles, Desks, Cabinets Etc, Equip W/Two Or More App Of Head 8535/8536, For Elec Ctrl/Distrib Of Electricity, For Lt 1,000 V, Nesoi | 853710 | Controls Etc W Elect Appr F Elect Cont Nov 1,000 V.
8538907020 | Automatic Circuit Breaker Parts For Headings 8535, 8536 Or 8537 | 853890 | Pt F Elect Appr F Elect Circt; F Elct Contrl Nesoi.
8538907040 | Electrical Metal Contacts For Heading 8535, 8536 & 8537 | 853890 | Pt F Elect Appr F Elect Circt; F Elct Contrl Nesoi.
8538907060 | Switchgear, Switchboad, Panel Board And Distribution Board Parts For Headings 8535, 8536, & 8537, Nesoi | 853890 | Pt F Elect Appr F Elect Circt; F Elct Contrl Nesoi.
8538907080 | Parts Suitable For Use Solely Or Principally With The Apparatus For Heading 8535, 8536, 8537, Nesoi | 853890 | Pt F Elect Appr F Elect Circt; F Elct Contrl Nesoi.
8539390000 | Discharge Lamps, Except For Ultraviolet, Nesoi | 853939 | Discharge Lamps Ex Ultrvilt Flurscnt Ht Cthde Lamp.
8539410000 | Arc Lamps | 853941 | Arc Lamps.
8540202000 | Cathode Ray Television Camera Tubes And Other Photocathode Tubes | 854020 | Tv Camera Tbs; Image Cnvrtr & Intnsfr; Phtocthd Tb.
8540204000 | Tv Camera, Image Intensifier & Converter Tubes, Nesoi | 854020 | Tv Camera Tbs; Image Cnvrtr & Intnsfr; Phtocthd Tb.
8540600055 | Cathode-ray Tubes, Having A Video Display Diagonal Not Exceeding 36 Cm (14 Inches), Nesoi | 854060 | Cathode-ray Tubes, N.E.S.O.I.
8540600080 | Cathode-ray Tubes, Having A Video Display Diagonal Exceeding 36 Cm, Nesoi | 854060 | Cathode-ray Tubes, N.E.S.O.I.
8540791000 | Klystron Microwave Tubes | 854079 | Microwave Tubes, Nesoi.
8540792000 | Microwave Tubes, Nesoi | 854079 | Microwave Tubes, Nesoi.
8540810000 | Reciever Or Amplifier Tubes | 854081 | Receiver Or Amplifier Tubes.
8540890020 | Gas And Vapor Electron Tubes, Nesoi | 854089 | Thermionic And Other Cathode Tubes Nesoi.
8540890040 | Diode, Triode, And Tetrode Type Tubes | 854089 | Thermionic And Other Cathode Tubes Nesoi.
8540890060 | Light-sensing Tubes | 854089 | Thermionic And Other Cathode Tubes Nesoi.
8540890080 | Thermionic, Cold Cathode Or Photocathode Tubes, Nesoi | 854089 | Thermionic And Other Cathode Tubes Nesoi.
8540912000 | Deflection Coils For Cathode Ray Tubes | 854091 | Parts Of Cathode-bay Tubes.
8540914000 | Cathode Ray Tube Parts, Nesoi | 854091 | Parts Of Cathode-bay Tubes.
8540990000 | Thermionic, Cold Cathode Or Photocathode Tube Parts, Nesoi | 854099 | Parts Of Cathode Tubes, Nesoi.
8543100000 | Particle Accelerators, Nesoi | 854310 | Particle Accelerators.
8543709665 | Electrical Machines And Apparatus, Nesoi | 854370 | Elec Mach And App, Having Indiv Functions, Nesoi.
8544602000 | Insulated Electric Conductors With Connectors, For A Voltage Exceeding 1,000 V | 854460 | Electric Conductors For Voltage Exceeding 1,000 V.
8544604000 | Insulated Electric Conductors Of Copper For A Voltage Exceeding 1,000 V, Nesoi | 854460 | Electric Conductors For Voltage Exceeding 1,000 V.
8544606000 | Insulated Electric Conductors For A Voltage Exceeding 1,000 V, Nesoi | 854460 | Electric Conductors For Voltage Exceeding 1,000 V.
8547200000 | Insulating Fittings Of Plastic For Machines | 854720 | Insulating Fittings For Machines Made Of Plastic.
8547900010 | Insulating Fittings For Machines Nesoi | 854790 | Inslt Fit Ex Ceram/plas;elec Cond Tb/jnt,bmtl Etc.
8547900020 | Electrical Conduit Tubing Lined With Insulation | 854790 | Inslt Fit Ex Ceram/plas;elec Cond Tb/jnt,bmtl Etc.
8547900030 | Electrical Conduit Lined With Insulation, Joints, Threaded | 854790 | Inslt Fit Ex Ceram/plas;elec Cond Tb/jnt,bmtl Etc.
8547900040 | Electrical Conduit Lined With Insulation, Joints, Nesoi | 854790 | Inslt Fit Ex Ceram/plas;elec Cond Tb/jnt,bmtl Etc.
8601100000 | Rail Locomotives Powered From An External Source Of Electricity | 860110 | Rail Locomotives Powered From External Source Elec.
8602900000 | Rail Locomotives; Locomotive Tenders, Nesoi | 860290 | Rail Locomotives And Tenders Nesoi.
8604000000 | Railway Or Tramway Maintenance Or Service Vehicles, Whether Or Not Self-propelled (For Example, Workshops, Cranes, Ballast Tampers, Trackliners, Etc) | 860400 | Railway Or Tramway Maintenance Or Service Vehicles.
8606920000 | Railway Or Tramway Freight Cars, Open, With Non-removable Sides Of A Height Exceeding 60 Cm, Not Self-propelled, Nesoi | 860692 | Railway Or Trmwy Cars, Open, Non-removbl Sides Ne.
8704101000 | Cab Chassis, Dumpers Designed For Off-highway Use | 870410 | Dumpers Designed For Off-highway Use.
8704105020 | Motr Vehicles For The Transport Of Goods, Rear Dump, Designed For Off-highway Use, With Capacty Of 40.8 Metric Tons Or Less | 870410 | Dumpers Designed For Off-highway Use.
8704105030 | Motor Veh For The Transport Of Goods, Rear Dump, Designed For Off-highway Use, With A Capacity Exceeding 40.8 Metric Tons But Not Exced 63.5 Metric T | 870410 | Dumpers Designed For Off-highway Use.
8704105040 | Motor Veh For Transport Of Goods, Rear Dump, Designed For Off-highway Use, With A Capacity Exceeding 63.5 Metric Tons But Not Exced 90.7 Metric Tons | 870410 | Dumpers Designed For Off-highway Use.
8704105050 | Motr Veh For Tranport Of Goods, Rear Dump, Off-highway Use, Capacity Exceding 90.7 Metric Tons | 870410 | Dumpers Designed For Off-highway Use.
8704105060 | Motor Vehicles For Transport Of Goods, Dumpers Designed For Off-highway Use, Except Rear Dump | 870410 | Dumpers Designed For Off-highway Use.
8704210100 | Motor Vehicles For Transport Of Goods, Nesoi, Diesel Engine, Gvw Not Exceeding 5 Metric Tons | 870421 | Trucks, Nesoi, Diesel Eng, Gvw 5 Metric Tons & Und.
8704224120 | Motor Vehicles For The Transport Of Goods, Nesoi, Diesel Engine, Gvw Exceeding 5 Metric Tons But Not Exceeding 9 Metric Tons | 870422 | Mtr Veh Trans Gds Com-ig Int C P E Gvw &gt; 5 nov 20 Mtn.
8704224140 | Motor Vehicles For The Transport Of Goods, Nesoi, Diesel Engine, Gvw Exceeding 9 Metric Tons But Not Exceeding 12 Metric Tons | 870422 | Mtr Veh Trans Gds Com-ig Int C P E Gvw & gt; 5 nov 20 Mtn.
8704224160 | Motor Vehicles For The Transport Of Goods, Nesoi, Diesel Engine, Gvw Exceeding 12 Metric Tons But Not Exceeding 15 Metric Tons | 870422 | Mtr Veh Trans Gds Com-ig Int C P E Gvw & gt; 5 nov 20 Mtn.
8704224180 | Motor Vehicles For The Transport Of Goods, Nesoi, Diesel Engine, Gvw Exceeding 15 Metric Tons But Not Exceeding 20 Metric Tons | 870422 | Mtr Veh Trans Gds Com-ig Int C P E Gvw & gt; 5 nov 20 Mtn.
8704320110 | Motor Vehicles For The Transport Of Goods, Spark-ignition Internal Combustion Piston Engine, Gvw Exceeding 5 M Tons But Not Exceeding 9 M Tons | 870432 | Mtr Veh Trans Gds Spk-ig In C P Eng, Gvw &gt; 5 M Tn.
8704320120 | Motor Vehicles For The Transport Of Goods, Spark-ignition Internal Combustion Piston Engine, Gvw Exceeding 9 M Tons But Not Exceeding 12 M Tons | 870432 | Mtr Veh Trans Gds Spk-ig In C P Eng, Gvw &gt; 5 M Tn.
8704320130 | Motor Vehicles For The Transport Of Goods, Spark-ignition Internal Combustion Piston Engine, Gvw Exceeding 12 But Not Exceeding 15 Metric Tons | 870432 | Mtr Veh Trans Gds Spk-ig In C P Eng, Gvw &gt; 5 M Tn.
8704320140 | Motor Vehicles For The Transport Of Goods, Spark-ignition Internal Combustion Piston Engine, Gvw Exceeding 15 But Not Exceeding 20 Metric Tons | 870432 | Mtr Veh Trans Gds Spk-ig In C P Eng, Gvw &gt; 5 M Tn.
8704320150 | Motor Vehicles For The Transport Of Goods, Spark-ignition Internal Combustion Piston Engine, Gvw Exceeding 20 Metric Tons | 870432 | Mtr Veh Trans Gds Spk-ig In C P Eng, Gvw &gt; 5 M Tn.
8705900000 | Special Purpose Vehicles, Nesoi | 870590 | Special Purpose Vehicles, Nesoi.
8709110030 | Works Trucks For Use In Warehouses, Factories, Etc, Electrical, Operator Riding, Not Fitted With Lifting Or Handling Equipment | 870911 | Elec Vehicles (fact Etc Works Trucks & Tractors).
8709110060 | Self-propelled Works Trucks Without Lifting Or Handling Equipment For Short Distance Transport Of Goods, Electrical, Except Operator Riding | 870911 | Elec Vehicles (fact Etc Works Trucks & Tractors).
8709900000 | Parts For Works Trucks For Use In Warehouses, Factories, Etc, Not Fitted With Lifting Or Handling Equipment | 870990 | Parts For Works Trucks W/o Lift Equip.
8716200000 | Self-loading Or Self-unloading Trailers And Semi-trailers For Agricultural Purposes | 871620 | Self-loading Or Self-unloading Trailers, semi-trail.
8716390010 | Trailers And Semi-trailers, Nesoi, For Agricultural Use, Nesoi | 871639 | Trailers & Semi-trailer F Trans Cds Nesoi.
8716390020 | Trailers And Semi-trailers, Nesoi, For Use With Vehicles, Nesoi, Of Heading 8709 | 871639 | Trailers & Semi-trailer F Trans Cds Nesoi.
8716390030 | Trailers And Semi-trailers, Nesoi, For Use With Vehicles, Nesoi, Of Heading 8703 | 871639 | Trailers & Semi-trailer F Trans Cds Nesoi.
8716390040 | Trailers And Semi-trailers, Nesoi, Van Type, Nesoi | 871639 | Trailers & Semi-trailer F Trans Cds Nesoi.
8716390050 | Trailers And Semi-trailers, Nesoi, Platform Type | 871639 | Trailers & Semi-trailer F Trans Cds Nesoi.
8716390090 | Trailers And Semi-trailers, Nesoi, For Transport Of Goods | 871639 | Trailers & Semi-trailer F Trans Cds Nesoi.
9010100000 | Apparatus & Equipment, Automatically Developing Photographic Film/Paper In Rolls, Automatically Exposing Developing Film To Roll Of Photographic Paper | 901010 | Apparatus & Equip, Automatic Developing Photo Film.
9015400000 | Photogrammetrical Surveying Instruments And Appliances | 901540 | Photogrammetrical Surveying Instruments & Applnces.
9015802000 | Optical Surveying, Hydrographic, Oceanographic, Hydrological, Meteorological Or Geophysical Instruments And Appliances, Exc Rangefinder & Compasses, Nes | 901580 | Surveying Instruments And Appliances, Nesoi Etc.
9015806000 | Seismographs | 901580 | Surveying Instruments And Appliances, Nesoi Etc.
9015808040 | Geophysical Instruments And Appliances, Nesoi | 901580 | Surveying Instruments And Appliances, Nesoi Etc.
9015808080 | Surveying, Hydrographic, Oceanographic, Hydrological Or Meteorological Instruments And Appliances, Excluding Compasses And Rangefinders, Nesoi | 901580 | Surveying Instruments And Appliances, Nesoi Etc.
9015900100 | Parts And Accessories For Surveying | 901590 | Parts And Accessories For Surveying Etc Nesoi.
9029100000 | Revolution Counters, Production Counters, Taximeters, Odometers, Pedometers And The Like | 902910 | Revolution Counters, Production Counters, Etc.
9031200000 | Test Benches | 903120 | Test Benches.
9031491000 | Profile Projectors | 903149 | Measuring Or Checking Instruments & Machines, Nesoi.
9031494000 | Coordinate-measuring Machines For Optical Instruments And Appliances | 903149 | Measuring Or Checking Instruments & Machines, Nesoi.
9031498000 | Optical Instruments And Appliances Nesoi | 903149 | Measuring Or Checking Instruments & Machines, Nesoi.
9031808060 | Equipment For Testing Electrical Characteristics Of Internal Combustion Engines | 903180 | Meas & Checkng Instrument, Appliances & Mach Nesoi.
9031808070 | Equipment For Testing The Characteristics Of Internal Combustion Engines, Nesoi | 903180 | Meas & Checkng Instrument, Appliances & Mach Nesoi.
9031808080 | Measuring Or Checking Instruments, Appliances And Machines, Nesoi | 903180 | Meas & Checkng Instrument, Appliances & Mach Nesoi.
9032810040 | Hydraulic Or Pneumatic Industrial Process Control Instruments And Apparatus | 903281 | Hydraulic/pneumatic Auto Regulating/contr Ins/appr.
9032810080 | Hydraulic And Pneumatic Instruments And Apparatus Except Industrial Process Control | 903281 | Hydraulic/pneumatic Auto Regulating/contr Ins/appr.
9032893000 | Automatic Voltage And Voltage-current Regulators | 903289 | Auto Regulating Ins & Appr Ex Throstat, mnstat, Etc.
9032896020 | Control Instruments For Air Conditioning, Refrigeration Or Heating Systems | 903289 | Auto Regulating Ins & Appr Ex Throstat, mnstat, Etc.
9032896030 | Process Control Instruments And Apparatus For Complete Systems | 903289 | Auto Regulating Ins & Appr Ex Throstat, mnstat, Etc.
9032896040 | Process Control Instruments And Apparatus For Temperature Control | 903289 | Auto Regulating Ins & Appr Ex Throstat, mnstat, Etc.
9032896050 | Process Control Instruments And Apparatus For Pressure Draft Control | 903289 | Auto Regulating Ins & Appr Ex Throstat, mnstat, Etc.
9032896060 | Process Control Instruments And Apparatus For Flow And Liquid Level Control | 903289 | Auto Regulating Ins & Appr Ex Throstat, mnstat, Etc.
9032896070 | Process Control Instruments And Apparatus For Humidity Control | 903289 | Auto Regulating Ins & Appr Ex Throstat, mnstat, Etc.
9032896075 | Process Control Instruments And Apparatus, Nesoi | 903289 | Auto Regulating Ins & Appr Ex Throstat, mnstat, Etc.
9032896085 | Automatic Regulating Or Controlling Instruments, Nesoi | 903289 | Auto Regulating Ins & Appr Ex Throstat, mnstat, Etc.

5. Supplement no. 5 to part 746 is amended by adding a sentence to the end of the introductory text to read as follows:

Supplement No. 5 to Part 746—`Luxury Goods' That Require a License For Export, Reexport, and Transfer (In-Country) to or Within Russia or Belarus Pursuant to § 746.10(a)(1) and (2)

* * * Schedule B number 8412294000 is listed in both this supplement and supplement no. 4 to this part, so exporters, reexporters, and transferors must comply with the license requirements under both §§ 746.5(a)(ii) and 746.10 as applicable.

* * * * *

Thea D. Rozman Kendler,
Assistant Secretary for Export Administration.

[FR Doc. 2022-10099 Filed 5-9-22; 8:45 am]

BILLING CODE 3510-33-P